DEPARTMENT OF HOMELAND SECURITY

U.S. Customs and Border Protection

Mexico Textile and Apparel Imports Approved for the Electronic Certification System (eCERT)

AGENCY: U.S. Customs and Border Protection, Department of Homeland Security.

ACTION: General notice.

SUMMARY: This document announces that the certification requirement for certain imports of textile and apparel goods from the United Mexican States (Mexico) that are eligible for preferential tariff treatment under a tariff preference level (TPL) will be accomplished through the Electronic Certification System (eCERT). Specified quantities of certain textile and apparel imports from Mexico that are eligible for preferential tariff treatment under a TPL must have a valid certificate of eligibility with a corresponding eCERT transmission in order for an importer to claim the preferential duty rate. As the Agreement Between the United States of America, the United Mexican States and Canada (USMCA) requires the use of an electronic system for the transmission of a certificate of eligibility and other documentation related to TPLs for goods imported into the United States, Mexico has coordinated with the United States Government (USG) to implement the eCERT process. Mexico is now ready to participate in this process and transition from the way the USG currently receives certificates of eligibility from Mexico to eCERT. This transition will not change the TPL filing process or requirements applicable to importers of record, who will continue to provide the certificate numbers from Mexico in the same manner as when currently filing entry summaries with U.S. Customs and Border Protection. The format of the certificate of eligibility numbers will remain the same for the corresponding eCERT transmissions.

DATES: The use of the eCERT process for certain Mexican textile and apparel importations eligible for preferential tariff treatment under a TPL will be effective for certain textile and apparel goods entered, or withdrawn from a warehouse, for consumption on or after October 5, 2021.

FOR FURTHER INFORMATION CONTACT: For quota-related questions, contact Julia Peterson, Chief, Quota and Agriculture Branch, Trade Policy and Programs, Office of Trade, (202) 384-8905, or HQQUOTA@cbp.dhs.gov. For questions related to the TPL provisions, contact Anita Harris, Chief, Textile Policy Branch, Trade Policy and Programs, Office of Trade, (202) 604-2151, or OTTEXTILE_POLICY_ENF@cbp.dhs.gov.

SUPPLEMENTARY INFORMATION:

Background

Pursuant to the Agreement Between the United States of America, the United Mexican States and Canada (USMCA), Section C (Preferential Tariff Treatment for Non-Originating Goods of another Party) of Annex 6-A of Chapter 6 (Textile and Apparel Goods) allows for preferential tariff treatment under a tariff-preference level (TPL) of specified annual quantities of certain textile and apparel goods from the United Mexican States (Mexico) for import into the United States. The TPLs for textile and apparel goods from Mexico set forth in U.S. Note 11 of subchapter XXIII of Chapter 98 of the Harmonized Tariff Schedule of the United States (HTSUS) are derived from Annex 6-A of Chapter 6 of the USMCA. Pursuant to Section C of Annex 6-A of the USMCA, the USMCA country where the good is being imported may require a document issued by the competent authority of a USMCA country, such as a certificate of eligibility, to provide information demonstrating that the good qualifies for duty-free treatment under a TPL, to track allocation and use of a TPL, or as a condition to grant duty-free treatment to the good under a TPL. Each USMCA country must notify the other USMCA countries if it requires a certificate of eligibility or other documentation. CBP has determined that TPLs under the USMCA will be administered using a certificate of eligibility. A TPL is a quantitative limit for certain non-originating textile or apparel goods that may be entitled to preferential tariff treatment based on the goods meeting certain requirements, as specified by the USMCA and CBP. A USMCA country will manage each TPL on a first-come, first-served basis, and will calculate the quantity of goods that enter under a TPL on the basis of its imports.

The Electronic Certification System (eCERT) is a system developed by CBP that uses electronic data transmissions of information normally associated with a required export document, such as a license or certificate, to facilitate the administration of TPLs and ensure that the proper restraint levels are charged without being exceeded. Mexico currently submits certificates of eligibility to CBP via email, and in the administration of the TPL, CBP validates these certificates with the certificate numbers provided by importers of record (importers) on their entry summaries. Paragraph 14 of Section C of Annex 6-A of the USMCA requires that the parties to the agreement establish a secure system for electronic transmission of certificates of eligibility or other documentation related to TPL utilization, as well as for sharing information in real time related to allocation and utilization of TPLs. CBP has coordinated with Mexico to implement the eCERT process, and now Mexico is ready to participate in this process by transmitting its certificates of eligibility to CBP via eCERT.

Foreign countries participating in eCERT transmit information via a global network service provider, which allows connectivity to CBP's automated electronic system for commercial trade processing, the Automated Commercial Environment (ACE). Specific data elements are transmitted to CBP by the importer (or an authorized customs broker) when filing an entry summary with CBP, and those data elements must match eCERT data from the foreign country before an importer may claim the preferential duty rate under a TPL. An importer may claim a preferential duty rate when merchandise is entered, or withdrawn from warehouse, for consumption, only if the information transmitted by the importer matches the information transmitted by the foreign government. If there is no transmission by the foreign government upon entry summary, an importer must claim the most-favored nation (MFN) rate of duty.¹ An importer may subsequently claim the preferential duty rate under certain limited conditions.²

¹ If there is no associated foreign government eCERT transmission available upon the filing of the entry summary, an importer may enter the merchandise for consumption subject to the MFN rate of duty or opt not to enter the merchandise for consumption at that time (e.g., transfer the merchandise to a customs bonded warehouse or foreign trade zone or export or destroy the merchandise).

² An importer has the opportunity to make a post-importation claim for a TPL by requesting a refund of any excess customs duties at any time within one year after the date of importation of the goods. However, the preferential duty rate is allowable only if there are still amounts available within the original TPL period.

This document announces that Mexico will be implementing the eCERT process for transmitting certificates of eligibility for certain textile and apparel entries that are eligible for preferential tariff treatment under a TPL. Imported merchandise that is entered, or withdrawn from warehouse, for consumption on or after October 5, 2021, must match the eCERT transmission of a certificate of eligibility from Mexico in order for an importer to claim the preferential duty rate. The transition to eCERT will not change the TPL filing process or requirements. Under this process, importers will continue to provide the certificate of eligibility numbers from Mexico in the same manner as when currently filing entry summaries with CBP. The format of the numbers of certificates of eligibility will not change as a result of the transition to eCERT. CBP will reject entry summaries that claim a preferential duty rate under a TPL when filed without a valid certificate of eligibility in eCERT.

Dated: September 24, 2021.
AnnMarie R. Highsmith,
Executive Assistant Commissioner, Office of Trade.

[FR Doc. 2021-21229 Filed 9-29-21; 8:45 am]

BILLING CODE 9111-14-P